DEPARTMENT OF HEALTH AND HUMAN SERVICES

Centers for Disease Control and Prevention

[30Day-24-0260]

Agency Forms Undergoing Paperwork Reduction Act Review

In accordance with the Paperwork Reduction Act of 1995, the Centers for Disease Control and Prevention (CDC) has submitted the information collection request titled “Health Hazard Evaluations/Technical Assistance and Emerging Problems” to the Office of Management and Budget (OMB) for review and approval. CDC previously published a “Proposed Data Collection Submitted for Public Comment and Recommendations” notice on August 1, 2023 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Health Hazard Evaluations/Technical Assistance and Emerging Problems (OMB Control No. 0920-0260, Exp. 3/31/2024)—Revision—National Institute for Occupational Safety and Health (NIOSH), Centers for Disease Control and Prevention (CDC).

Background and Brief Description

In accordance with its mandates under the Occupational Safety and Health Act of 1970 and the Federal Mine Safety and Health Act of 1977, NIOSH responds to requests for a Health Hazare Evaluation (HHE) to identify chemical, biological or physical hazards in workplaces throughout the United States. Each year, NIOSH receives approximately 250 such requests although that number has been lower in recent years presumably due to the COVID-19 pandemic. Most HHE requests come from workplaces in the following industrial sectors: services, manufacturing, health and social services, transportation, and construction.

A printed HHE request form is available in English and in Spanish. The form is also available on the internet and differs from the printed version only in format and in the fact that it can be submitted directly from the website. The request form takes an estimated 12 minutes to complete. The form provides the mechanism for employees, employers, and other authorized representatives to supply the information required by the regulations governing the NIOSH HHE program (42 CFR 85.3-1). NIOSH reviews the HHE request to determine if an on-site evaluation is needed. The primary purpose of an on-site evaluation is to help employers and employees identify and eliminate occupational health hazards. For approximately 25% of the requests received NIOSH determines an on-site evaluation is needed.

Using previous HHE program experience and data, approximately 73% of on-site evaluations include employees that are interviewed in an informal manner to help further define concerns. Interviews may take approximately 15 minutes per respondent. The interview questions are specific to each workplace and its suspected diseases and hazards. However, interviews are based on standard medical practices. In approximately 37% of on-site evaluations, questionnaires are distributed or administered by NIOSH staff to employees. Questionnaires may require approximately 30 minutes to complete. The survey questions are specific to each workplace, and its suspected diseases and hazards; however, items in the questionnaires are derived from standardized or widely used medical and epidemiologic data collection instruments. Approximately five (6%) of the on-site evaluations involve medical tests or the collection of biological samples that would require informed consent. The estimated time to complete the informed consent process is 30 minutes. If 30 employees are monitored at each of the five work sites, the burden from this activity is 75 hours.

Approximately 73% of the on-site evaluations involve employee exposure monitoring in the workplace. Employees participating in on-site evaluations by wearing a sampling or monitoring device to measure personal workplace exposures are offered the opportunity to receive notification of their exposure results. To indicate their preference and, if interested, provide contact information, employees complete a contact information post card or form. Completing the contact card or form may take five minutes or less. The number of employees monitored for workplace exposures per on-site evaluation is estimated to be 25 per site.

NIOSH distributes interim and final reports of HHEs, excluding personal identifiers, to the following: requesters, employers, employee representatives; the Department of Labor (Occupational Safety and Health Administration or Mine Safety and Health Administration, as appropriate); state health departments; and, as needed, other state and federal agencies. NIOSH administers a followback program to assess the effectiveness of its HHE program in reducing workplace hazards. This program entails the distribution of followback surveys to employer and employee representatives at all the workplaces where NIOSH conducted an on-site evaluation. In a small number of instances, a followback on-site evaluation may be completed. The first followback survey is sent shortly after the first visit for an on-site evaluation and takes about 10 minutes to complete. A second followback survey is sent after the final report is completed and requires about 20 minutes to complete. At 12 months, a third followback survey is sent, which takes about 15 minutes to complete. For requests where NIOSH does not conduct an on-site evaluation, the requestor receives the first followback survey after our response letter is sent and a second one 12 months after our response. The first survey takes about 10 minutes to complete, and the second survey takes about 15 minutes to complete.

Because of the number of investigations conducted each year, the need to respond quickly to requests for assistance, the diverse and unpredictable nature of these investigations, and its followback program to assess evaluation effectiveness, NIOSH requests a consolidated clearance for data collections performed within the domain of its HHE program. The total estimated burden hours are 2267 hours. There is no cost to respondents other than their time.

Estimated Annualized Burden Hours
Type of respondents | Form name | Number of respondents | Number of responses per respondent | Average burden per response (in hours)
Employees and Representatives | Health Hazard Evaluation Request Form | 175 | 1 | 12/60
Employers * | Health Hazard Evaluation Request Form | 75 | 1 | 12/60
Employees | Health Hazard Evaluation Specific Interview Example | 1,710 | 1 | 15/60
Employees | Health Hazard Evaluation Specific Questionnaire Example | 2,900 | 1 | 30/60
Employees | HHE specific Informed Consent Form | 150 | 1 | 30/60
Employees | Contact Information Post Card | 1,425 | 1 | 5/60
Employees and Representatives; Employers—Year 1 (on-site evaluation) | First Followback Survey | 140 | 1 | 10/60
Employees and Representatives; Employers—Year 1(on-site evaluation) | Second Followback Survey | 140 | 1 | 20/60
Employees and Representatives; Employers—Year 2 (on-site evaluation) | Third Followback Survey | 140 | 1 | 15/60
Employees and Representatives Year 1 (without on-site evaluation) | First Followback Survey | 94 | 1 | 10/60
Employees and Representatives Year 2 (without on-site evaluation) | Second Followback Survey | 94 | 1 | 15/60

Jeffrey M. Zirger,
Lead, Information Collection Review Office, Office of Public Health Ethics and Regulations, Office of Science, Centers for Disease Control and Prevention.

[FR Doc. 2023-26080 Filed 11-24-23; 8:45 am]

BILLING CODE 4163-18-P